DEPARTMENT OF HEALTH AND HUMAN SERVICES

Centers for Disease Control and Prevention

Study Team for the Los Alamos Historical Document Retrieval and Assessment Project

The Centers for Disease Control and Prevention (CDC) and the Agency for Toxic Substances and Disease Registry (ATSDR) announce the following meeting.

Name: Public Meeting of the Study Team for the Los Alamos Historical Document Retrieval and Assessment Project.

Time and Date: 5 p.m.-7 p.m., November 27, 2001.

Place: Radisson Santa Fe Hotel (Board Room), 750 North Street Francis Drive, Santa Fe, New Mexico 87501, telephone 505-992-5800.

Status: Open to the public, limited only by the space available. The meeting room accommodates approximately 50 people.

Background: Under a Memorandum of Understanding (MOU) signed in December 1990 with Department of Energy (DOE) and replaced by an MOU signed in 1996, the Department of Health and Human Services (HHS) is given the responsibility and resources for conducting analytic epidemiologic investigations of residents of communities in the vicinity of DOE facilities, workers at DOE facilities, and other persons potentially exposed to radiation or to potential hazards from non-nuclear energy production use. HHS delegated program responsibility to CDC.

In addition, a memo was signed in October 1990 and renewed in November 1992 between the ATSDR and DOE. The MOU delineates the responsibilities and procedures for ATSDR's public health activities at DOE sites required under sections 104, 105, 107, and 120 of the Comprehensive Environmental Response, Compensation, and Liability Act (CERCLA or Superfund). These activities include health consultations and public health assessments at DOE sites listed on, or proposed for, the Superfund National Priorities List and at sites that are the subject of petitions from the public; and other health-related activities such as epidemiologic studies, health surveillance, exposure and disease registries, health education, substance-specific applied research, emergency response, and preparation of toxicological profiles.

Purpose: This Study Team is charged with locating, evaluating, cataloguing, and copying documents that contain information about historical, chemical, or radionuclide releases from facilities at the Los Alamos National Laboratory since its inception. The purpose of this meeting is to review the goals, methods, and schedule of the project, discuss progress to date, provide a forum for community interaction, and serve as a vehicle for members of the public to express concerns and provide advice to CDC.

Matters to be Discussed: Agenda items include an update from the National Center for Environmental Health (NCEH) and its contractor regarding the information-gathering project that is underway. This will include discussion of the extent to which access to classified documents has been restored, limitations still in place, and the second draft of the project's historical operations and releases report, which will be issued in September. There will be time for public input, questions, and comments. All agenda items are subject to change as priorities dictate.

CONTACT PERSONS FOR ADDITIONAL INFORMATION: Robert C. Whitcomb, Ph.D., Radiation Studies Branch, Division of Environmental Hazards and Health Effects, NCEH, CDC, Building 6, Room T006, Executive Park Drive (E-39), Atlanta, GA 30329, telephone 404-498-1800, fax 404-498-1811.

The Director, Management Analysis and Services Office has been delegated the authority to sign Federal Register notices pertaining to announcements of meetings and other committee management activities for both CDC and ATSDR.

Dated: November 6, 2001.
John Burckhardt,
Acting Director, Management Analysis and Services Office, Centers for Disease Control and Prevention.

[FR Doc. 01-28329 Filed 11-8-01; 8:45 am]

BILLING CODE 4163-18-P